DEPARTMENT OF AGRICULTURE

Grain Inspection, Packers and Stockyards Administration

United States Standards for Lentils

AGENCY: Grain Inspection, Packers and Stockyards Administration, USDA.

ACTION: Notice; request for public comment.

SUMMARY: The United States Department of Agriculture's (USDA) Grain Inspection, Packers, and Stockyards Administration (GIPSA) is proposing a revision to the United States Standards for Lentils to (1) establish an additional grading factor, definition, grade requirements, and visual reference images for “wrinkled lentils,” and (2) establish a special grade, definition, special grade requirements, designation, and visual reference images for “green lentils.” These revisions are being proposed at the request of the lentil industry. GIPSA believes that this proposed revision of the United States Standards for Lentils would improve the application of the standards and facilitate the marketing of lentils.

DATES: GIPSA will consider comments received by June 14, 2017.

ADDRESSES: GIPSA invites all interested parties to submit comments on this Notice. You may submit comments by any of the following methods:

• Mail: M. Irene Omade, GIPSA, USDA, 1400 Independence Avenue SW., Room 2530-S, Washington, DC 20250-3613.

• Hand Delivery or Courier: M. Irene Omade, GIPSA, USDA, 1400 Independence Avenue SW., Room 2530-S, Washington, DC 20250-3613.

• Internet: http://www.regulations.gov. Follow the on-line instructions for submitting comments.

Instructions: All comments should make reference to the date and page number of this issue of the Federal Register. All documents and comments relating to this Notice are available for public inspection in Room 2530-S, 1400 Independence Avenue SW., Washington, DC 20250-3613 during regular business hours (7 CFR 1.27(b)). All comments received will be included in the public docket without change, including any personal information provided. Please call the GIPSA Management and Budget Services support staff (202) 720-8479 for an appointment to view the comments.

FOR FURTHER INFORMATION CONTACT: Beverly A. Whalen at GIPSA, USDA, 10383 N. Ambassador Drive, Kansas City, MO 64153; Telephone: (816) 659-8410; Fax: (816) 872-1258; Beverly.A.Whalen@usda.gov.

SUPPLEMENTARY INFORMATION: Section 203(c) of the Agricultural Marketing Act of 1946, as amended, (AMA), directs and authorizes the Secretary of Agriculture “To develop and improve standards of quality, condition, quantity, grade, and packaging and recommend and demonstrate such standards in order to encourage uniformity and consistency in commercial practices.” GIPSA is committed to carrying out this authority in a manner that facilitates the marketing of agricultural commodities.

Under the AMA, GIPSA establishes standards for graded commodities including rice, whole dry peas, split peas, feed peas, lentils, and beans. The AMA standards are voluntary and widely used in private contracts, government procurement, marketing communication, and/or consumer information. The standards serve as a common trading language to define commodity quality in the domestic and global marketplace.

Background

GIPSA engages in regular outreach with stakeholders to ensure commodity standards maintain relevance with the modern market. Lentil industry stakeholders include the USA Dry Pea and Lentil Council (USADPLC), a national organization of producers, processors, and exporters of U.S. dry peas, lentils, and chickpeas; the US Dry Pea and Lentil Trade Association (USPLTA), a national association representing processors, traders, and transporters in the pea, lentil and chickpea industry; and, other handlers and merchandisers.

The United States Standards for Lentils are found on GIPSA's Web site at https://www.gipsa.usda.gov/fgis/standards/lentils.pdf. USADPLC and USPLTA reviewed the U.S. Standards for Lentils, which were last revised in 2008. The review resulted in those stakeholders jointly recommending that GIPSA revise the standards based on changing market trends. Specifically, these groups asked GIPSA to (1) establish a new grading factor of “wrinkled lentils,” and (2) establish a new special grade of “green lentils.”

GIPSA provides official inspection procedures for lentils in the Pea and Lentil Handbook, which is available on the GIPSA's public Web site at https://www.gipsa.usda.gov/fgis/handbook/PeaLentilHB/PeaLentil_2016-07-11.pdf.

Establishment of Grading Factor “Wrinkled Lentils”

USADPLC and USPLTA reported on a trend of an increasing percentage of fully developed lentils that possess a wrinkled seed coat. These lentils do not meet the definition for immature lentils. Under the current U.S. Standards for Lentils, these lentils would grade U.S. #1; however, the wrinkled appearance is considered undesirable. The stakeholders jointly recommended that GIPSA establish a new grade determining factor “wrinkled lentil,” and also recommended factor limits for grades No's. 1, 2, and 3. GIPSA and these stakeholders collaborated to develop a visual reference image that best reflects the “wrinkled lentil” condition. Stakeholders endorsed the following definition:

Wrinkled lentils are sound lentils that are substantially wrinkled on at least 50 percent of one side.

The revised table of grade and grade requirements for dockage-free lentils would be as follows:

607 Grades and Grade Requirements for Dockage-Free Lentils
Grading factors | Grades U.S. Nos.: 1 | Grades U.S. Nos.: 2 | Grades U.S. Nos.: 3
Defective Lentils
Total ¹ | 2.0 | 3.5 | 5.0
Weevil-Damaged Lentils | 0.3 | 0.8 | 0.8
Heat-Damaged Lentils | 0.2 | 0.5 | 1.0
Foreign Material
Total ² | 0.2 | 0.5 | 0.5
Stones | 0.1 | 0.2 | 0.2
Skinned Lentils | 4.0 | 7.0 | 10.0
Wrinkled Lentils ³ | 5.0 | 10.0 | >10.0
Contrasting Lentils ⁴ | 2.0 | 4.0 | >4.0
Inconspicuous Admixture | 0.5 | 0.8 | 1.0
Minimum Requirements for Color | Good | Fair | Poor
U.S. Sample grade lentils:
(a) Do not meet the requirements for the grades U.S. Nos. 1, 2, or 3; or
(b) Contain more than 14.0 percent moisture, live weevils, or other live insects, metal fragments, broken glass, or a commercially objectionable odor; or
(c) Are materially weathered, heating, or distinctly low quality.
¹ Defective lentils total is weevil-damaged, heat-damaged, damaged, and split lentils combined.
² Foreign material total includes stones.
³ Lentils with more than 10.0 percent wrinkled lentils must grade no higher than U.S. No. 3.
⁴ Lentils with more than 4.0 percent contrasting lentils must grade no higher than U.S. No. 3.

Establishment of Special Grade “Green Lentils”

The USPLTA Grades Committee members recommended that GIPSA establish a special grade, “green lentils.” Lentil stakeholders concurred on the need for a special grade to distinguish a desirable aesthetic feature. GIPSA and these stakeholders collaborated to develop a visual reference image that best reflects the “green lentils” condition. Stakeholder endorsed the following definition:

Green lentils are clear seeded (non-mottled) and possess a natural, uniformly green color.

Proposed GIPSA Action

Based on input from stakeholder organizations in the lentil industry that concurred on the need for revisions to the United States Standards for Lentils, GIPSA proposes to revise the lentil standards to (1) establish a new grade determining factor, definition, factor limits, and visual reference image for “wrinkled lentils,” and (2) establish a special grade, definition, designation, and visual reference image for “green lentils.” Accordingly, GIPSA proposes the following revisions:

Section 601, Definitions, would be amended to include the definition of “Wrinkled lentils.”

Section 607, Grades and grade requirements for dockage-free lentils, would be amended to include grade limits for “Wrinkled lentils.”

Section 609, Special grades and requirements, would be amended to include the definition of “Green lentils.”

GIPSA will solicit comments for 30 days. All comments received within the comment period will be made part of the public record maintained by GIPSA, will be available to the public for review, and will be considered by GIPSA before final action is taken on the proposal.

The Pea and Lentil Handbook would be revised to incorporate any revision to the standards.

Authority: 7 U.S.C. 1621-1627.

Randall D. Jones,
Acting Administrator, Grain Inspection, Packers and Stockyards Administration.

[FR Doc. 2017-09720 Filed 5-12-17; 8:45 am]

BILLING CODE 3410-KD-P